NUCLEAR REGULATORY COMMISSION

[Docket No. 50-341; NRC-2010-0357; FERMI, Unit 2]

Detroit Edison Company; Environmental Assessment and Finding of No Significant Impact

The U.S. Nuclear Regulatory Commission (NRC) is considering issuance of an exemption from Title 10 of the Code of Federal Regulations (10 CFR) part 20 Appendix G, Section III.E, for Facility Operating License No. NFP-43, issued to Detroit Edison Company (DECo, the licensee), for operation of Fermi, Unit 2 (Fermi-2) located in Monroe County, Michigan. Therefore, as required by 10 CFR 51.21, the NRC performed an environmental assessment. Based on the results of the environmental assessment, the NRC is issuing a finding of no significant impact.

Environmental Assessment

Identification of the Proposed Action

The proposed action would grant an exemption to extend the time period that can elapse during shipments of low-level radioactive waste before the licensee is required to investigate and file a report with the NRC. Specifically, the exemption would extend the time period for the licensee to receive acknowledgment that the low-level radioactive waste shipment has been received by the intended recipient from 20 days to 35 days.

The proposed action is in accordance with the licensee's application for an exemption dated February 5, 2010. The licensee has requested an exemption from certain control and tracking requirements in 10 CFR part 20, Appendix G, Section III.E, which require the licensee to investigate, and file a report with the NRC, if shipments of low-level radioactive waste are not acknowledged by the intended recipient within 20 days after transfer to the shipper.

The Need for the Proposed Action

DECo anticipates the increased use of rail as the method to ship radioactive waste. The licensee has experience with rail shipments from the Fermi-1 decommissioning project. Those rail shipments typically took more than 20 days to reach their destination in Clive, Utah. On April 26, 2010, the NRC granted a similar exemption extending the time period from 20 days to 35 days for radioactive shipments from Fermi-1 based on historical data submitted in support of that exemption request.

The licensee believes, and the NRC staff agrees, that the need to investigate, trace, and report to the NRC on the shipment of low-level waste packages not reaching their destination within 20 days does not serve the underlying purpose of the rule. The Commission finds that the underlying purpose of the Appendix G timing provision at issue is to investigate a late shipment that may be lost, misdirected or diverted. Furthermore, by extending the elapsed time for receipt acknowledgement to 35 days before requiring investigations and reporting, a reasonable upper limit on shipment duration (based on historical analysis) is still maintained if a breakdown of normal tracking systems were to occur. Therefore, the NRC staff finds that granting an exemption to extend the time period from 20 days to 35 days for mixed-mode or truck/rail or rail shipments of low-level radioactive waste will not result in an undue hazard to life or property.

Environmental Impacts of the Proposed Action

The NRC has completed its environmental assessment of the proposed action and concludes that the proposed action is procedural and administrative in nature. The staff has concluded that the changes would not significantly affect plant safety and would not have a significant adverse effect on the probability of an accident occurring. The proposed action would not result in an increased radiological hazard beyond those previously analyzed in the Updated Safety Analysis Report. There will be no change to radioactive effluents that affect radiation exposures to plant workers and members of the public. No changes will be made to plant buildings or the site property. Therefore, no changes or different types of radiological impacts are expected as a result of the proposed changes.

The proposed action does not result in changes to land use or water use, or result in changes to the quality or quantity of non-radiological effluents. No changes to the National Pollution Discharge Elimination System permit are needed. No effects on the aquatic or terrestrial habitat in the vicinity or the plant, or to threatened, endangered, or protected species under the Endangered Species Act, or impacts to essential fish habitat covered by the Magnuson-Stevens Act are expected. There are no impacts to the air or ambient air quality. There are no impacts to historical and cultural resources. There would be no noticeable effect on socioeconomic conditions in the region. Therefore, no changes or different types of non-radiological environmental impacts are expected as a result of the proposed action. Accordingly, the NRC concludes that there are no significant environmental impacts associated with the proposed action. The details of the NRC staff's safety evaluation will be provided in the exemption issued as part of the letter to the licensee approving the exemption to the regulation, if granted.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the Final Environmental Statement for the Enrico Fermi Atomic Power Plant, Unit 2, NUREG-0769, dated August 1981, as supplemented with Addendum No. 1 in March 1982.

Agencies and Persons Consulted

In accordance with its stated policy, on September 21, 2010, the NRC staff consulted with the State official, Mr. Ken Yale, of the Michigan Department of Natural Resources and Environment regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated February 5, 2010 (Agencywide Documents Access and Management System (ADAMS) Accession No. ML100430349). Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 3rd day of November, 2010.
For the Nuclear Regulatory Commission.
Mahesh L. Chawla,
Project Manager, Plant Licensing Branch III-1, Division of Operating Reactor Licensing, Office of Nuclear Reactor Regulation.

[FR Doc. 2010-29114 Filed 11-17-10; 8:45 am]

BILLING CODE 7590-01-P